DEPARTMENT OF THE INTERIOR

National Park Service

[2253-665]

Notice of Inventory Completion: Denver Museum of Nature & Science, Denver, CO

AGENCY: National Park Service, Interior.

ACTION: Notice.

SUMMARY: The Denver Museum of Nature & Science has completed an inventory of human remains, in consultation with the appropriate Indian Tribes, and has determined that there is no cultural affiliation between the remains and any present-day Tribe. Representatives of any Indian Tribe that believes itself to be culturally affiliated with the human remains may contact the museum. Disposition of the human remains to the Tribes stated below may occur if no additional requestors come forward.

DATES: Representatives of any Indian Tribe that believes it has a cultural affiliation with the human remains should contact the museum at the address below by March 21, 2011.

ADDRESSES: Any Tribe that believes it has a cultural affiliation with the human remains should contact Dr. Chip Colwell-Chanthaphonh, Denver Museum of Nature & Science, 2001 Colorado Blvd., Denver, CO 80205, telephone (303) 370-6378.

SUPPLEMENTARY INFORMATION: Notice is here given in accordance with the Native American Graves Protection and Repatriation Act (NAGPRA), 25 U.S.C. 3003, of the completion of an inventory of human remains in the possession of the Denver Museum of Nature & Science, Denver, CO. The human remains were removed from Brewster County, TX.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Denver Museum of Nature & Science professional staff in consultation with representatives of the Apache Tribe of Oklahoma; Cheyenne and Arapaho Tribes, Oklahoma; Comanche Nation of Oklahoma; Fort Sill Apache Tribe of Oklahoma; Jicarilla Apache Nation, New Mexico; Kiowa Indian Tribe of Oklahoma; Mescalero Apache Tribe of the Mescalero Reservation, New Mexico; San Carlos Apache Tribe of the San Carlos Reservation, Arizona; Tonto Apache Tribe of Arizona; Tonkawa Tribe of Indians of Oklahoma; White Mountain Apache Tribe of the Fort Apache Reservation, Arizona; and the Ysleta Del Sur Pueblo of Texas (hereinafter referred to as “The Tribes”).

History and Description of the Remains

In 1940, George McFadden removed human remains representing a minimum of two individuals from a burial context at an unknown cave site in the Big Bend Rio Grande Area, Brewster County, TX. At an unknown date, Carl Fisher purchased the remains from the son-in-law of George McFadden. In 1983, the remains were donated to the Denver Museum and accessioned into the collections (A1463.87, A1463.101A-C, and A1463.113 (CUI 57); and A1463.111A-C and A1463.113 (CUI 58)). The remains consist of various pieces of human hair. No known individuals were identified. No associated funerary objects are present.

Determinations Made by the Denver Museum

• Based on non-destructive physical analysis and catalogue records, the human remains are determined to be Native American.

• Pursuant to 25 U.S.C. 3001(2), a relationship of shared group identity cannot be reasonably traced between the Native American human remains and any present-day Indian Tribe.

• Multiple lines of evidence, including treaties, Acts of Congress, Executive Orders, consultation, and other credible lines of evidence indicate that the Native American human remains were removed from the aboriginal land of the Apache Tribe of Oklahoma; Fort Sill Apache Tribe of Oklahoma; Jicarilla Apache Nation, New Mexico; Mescalero Apache Tribe of the Mescalero Reservation, New Mexico; San Carlos Apache Tribe of the San Carlos Reservation, Arizona; Tonto Apache Tribe of Arizona; White Mountain Apache Tribe of the Fort Apache Reservation, Arizona; and the Ysleta Del Sur Pueblo of Texas.

• Pursuant to 25 U.S.C. 3001(9), the human remains described above represent the physical remains of two individuals of Native American ancestry.

• Pursuant to 43 CFR 10.11(c)(1), the disposition of the human remains is to the Apache Tribe of Oklahoma; Fort Sill Apache Tribe of Oklahoma; Jicarilla Apache Nation, New Mexico; Mescalero Apache Tribe of the Mescalero Reservation, New Mexico; San Carlos Apache Tribe of the San Carlos Reservation, Arizona; Tonto Apache Tribe of Arizona; White Mountain Apache Tribe of the Fort Apache Reservation, Arizona; and the Ysleta Del Sur Pueblo of Texas.

Additional Requestors and Disposition

Representatives of any Indian Tribe that believes itself to be culturally affiliated with the human remains or any other Indian Tribe that believes it satisfies the criteria in 43 CFR 10.11(c)(1) should contact Dr. Chip Colwell-Chanthaphonh, Denver Museum of Nature & Science, 2001 Colorado Blvd., Denver, CO 80205, telephone (303) 370-6378, before March 21, 2011. Disposition of the human remains to the Apache Tribe of Oklahoma; Fort Sill Apache Tribe of Oklahoma; Jicarilla Apache Nation, New Mexico; Mescalero Apache Tribe of the Mescalero Reservation, New Mexico; San Carlos Apache Tribe of the San Carlos Reservation, Arizona; Tonto Apache Tribe of Arizona; White Mountain Apache Tribe of the Fort Apache Reservation, Arizona; and the Ysleta Del Sur Pueblo of Texas, may proceed after that date if no additional requestors come forward.

The Denver Museum of Nature & Science is responsible for notifying The Tribes that this notice has been published.

Dated: February 15, 2011.
Sherry Hutt,
Manager, National NAGPRA Program.

[FR Doc. 2011-3760 Filed 2-17-11; 8:45 am]

BILLING CODE 4312-50-P